ENVIRONMENTAL PROTECTION AGENCY

40 CFR Part 300

[FRL-6860-8]

National Oil and Hazardous Substances Pollution Contingency Plan; National Priorities List

AGENCY: Environmental Protection Agency.

ACTION: Notice of partial deletion of the Cimarron Mining Superfund Site from the National Priorities List.

SUMMARY: The Environmental Protection Agency (EPA) Region 6 announces the partial deletion of the Cimarron Mining Superfund Site (Site). This partial deletion applies only to the surface soil portion of Operable Unit 1 (OU 1 or Cimarron) and all of Operable Unit 2 (OU 2 or Sierra Blanca, which consists solely of surface soils). The long-term remedial action for the ground water portion of the remedy for the surface soil portion of OU 1 will continue until further notice and remains on the National Priorities List (NPL). The NPL, promulgated pursuant to section 105 of the Comprehensive Environmental Response, Compensation, and Liability Act (CERCLA) of 1980, as amended, is codified at Appendix B of the National Oil and Hazardous Substances Pollution Contingency Plan (NCP), 40 CFR part 300. This partial deletion is consistent with EPA's Notice of Policy Change: Policy Regarding Partial Deletion of Sites Listed on the National Priorities List. This partial deletion does not pertain to the subsurface portion of OU 1 (Cimarron) including without limitation ground water and subsurface soils. The subsurface portion of the Site will remain on the NPL, and response activities will continue for that portion. With the concurrence of the State of New Mexico, acting through the New Mexico Environment Department (NMED), EPA has determined that for the surface portion of OU 1 (Cimarron) and all of OU 2 (Sierra Blanca) all appropriate Hazardous Substance Response Trust Fund (Fund)—financed response under CERCLA has been implemented and that no further response action by responsible parties is appropriate. (Neither CERCLA-required five-year reviews nor operation and maintenance are considered further response action for the purpose of this partial deletion.) EPA, with State of New Mexico concurrence (acting through NMED), has determined that Site investigations show that the portions of the Site being deleted from the NPL now pose no significant threat to public health or the environment; consequently, pursuant to CERCLA section 105, and 40 CFR 300.425(e), the surface portions of the Site (the surface portion of OU 1 and all of OU 2) are hereby deleted from the NPL.

EFFECTIVE DATE: August 31, 2000.

FOR FURTHER INFORMATION CONTACT: Ms. Petra Sanchez, Remedial Project Manager, 214-665-6686, United States Environmental Protection Agency, Region 6, 6SF-LT, 1445 Ross Avenue, Suite 1200, Dallas, Texas, 75231. Information on the Site is available at the local information repository located at Carrizozo City Hall, P.O. Box 247, Carrizozo, New Mexico 88301. Requests for comprehensive copies of documents should be directed formally to Ms. Elizabeth Rogers, Regional Superfund Information Management Team, EPA Region 6, SF-PI, 1445 Ross Avenue, Suite 1200, Dallas, Texas, 75231.

SUPPLEMENTARY INFORMATION: The Site being partially deleted from the NPL is the Cimarron Mining Superfund Site located near the town of Carrizozo, in Lincoln County, New Mexico. This partial deletion pertains only to the surface portions of the Site (surface portion of OU 1, Cimarron, and the entire portion of OU 2, Sierra Blanca (the latter consisting solely of surface soils). This action does not pertain to the Long Term Remedial Action for ground water at OU 1, Cimarron. This partial deletion is in accordance with 40 CFR 300.425(e) and the Notice of Policy Change: Partial Deletion of Sites Listed on the National Priorities List, 60 FR 55466 (November 1, 1995). A Notice of Intent for Partial Deletion was published on June 21, 2000 (65 FR 38476). The closing date for comments on the Notice of Intent for Partial Deletion was July 21, 2000. No comments were received. The EPA identifies sites which appear to present a significant risk to public health, welfare, or the environment and it maintains the NPL as the list of those sites. Sites on the NPL may be the subject of Fund-financed remedial actions. Section 300.425(e)(3) of the NCP, 40 CFR 300.425(e)(3), states that Fund-financed actions may be taken at sites deleted from the NPL in the event that future conditions at the site warrant such action. Deletion of a site from the NPL does not affect responsible party liability or impede EPA efforts to recover costs associated with response efforts.

List of Subjects in 40 CFR Part 300

Environment protection, Air pollution control, Chemicals, Hazardous substances, Hazardous waste, Intergovernmental regulations, Penalties, Reporting and recordkeeping requirements, Superfund, Water pollution control, Water supply.

Dated: August 17, 2000.
Lynda F. Carroll,
Acting Regional Administrator, U.S. EPA Region 6.

For the reasons set out in the preamble, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

2. Table 1 of Appendix B to part 300 is amended by revising the entry for “Cimarron Mining Corp.,” Carrizozo, New Mexico to read as follows:

Appendix B to Part 300—National Priorities List

Table 1—General Superfund Section
State | Site name | City/County | Notes(a)
* * * * * * *
NM | Cimarron Mining Corp | Carrizozo | P.
* * * * * * *
(a) * * *
P=Sites with partial deletion(s).

[FR Doc. 00-22162 Filed 8-30-00; 8:45 am]

BILLING CODE 6560-50-P